SMALL BUSINESS ADMINISTRATION

[Declaration of Economic Injury Disaster #9K85]

State of Georgia

Bryan, Glynn, and McIntosh Counties and the contiguous counties of Brantley, Bulloch, Camden, Chatham, Effingham, Evans, Liberty, Long, and Wayne in the State of Georgia constitute an economic injury disaster loan area as a result of extended cold and severe freezes that occurred between December 17, 2000 and January 7, 2001. Eligible small businesses and small agricultural cooperatives without credit available elsewhere may file applications for economic injury assistance as a result of this disaster until the close of business on November 26, 2001 at the address listed below or other locally announced locations: U.S. Small Business Administration, Disaster Area 2 Office, One Baltimore Place, Suite 300, Atlanta, GA 30308.

The interest rate for eligible small businesses and small agricultural cooperatives is 4 percent.

The number assigned for economic injury for the State of Georgia is 9K8500.

(Catalog of Federal Domestic Assistance Program No. 59002.)

Dated: February 26, 2001.
John Whitmore,
Acting Administrator.

[FR Doc. 01-5333 Filed 3-5-01; 8:45 am]

BILLING CODE 8025-01-U